DEPARTMENT OF ENERGY

Federal Energy Regulatory Commission

[Docket No. IC22-2-000]

Commission Information Collection Activities (FERC-519, FERC-545, FERC-546, FERC-549C, and FERC-732); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-519, (Application under Federal Power Act Section 203); FERC-545, (Gas Pipeline Rates: Rate Change (Non-Formal)); FERC-546, (Certification of Qualifying Facility (QF) Status for a Small Power Production or Cogeneration Facility); FERC-549C, (Standards for Business Practices of Interstate Natural Gas Pipelines); FERC-732, (Electric Rate Schedule and Tariffs: Long-Term Firm Transmission Rights in Organized Electricity Markets). The above five collections are a part of a combined notice only and are not being combined into one OMB Collection number.

DATES: Comments on the collection of information are due January 14, 2022.

ADDRESSES: You may submit copies of your comments (identified by Docket No. IC22-2-000) by one of the following methods:

Electronic filing through http://www.ferc.gov, is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (Including Courier) Delivery: Deliver to: Federal Energy Regulatory Commission, 12225 Wilkins Avenue, Rockville, MD 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov, telephone at (202) 502-8663.

SUPPLEMENTARY INFORMATION:

1. FERC-519

Title: FERC-519, Application under Federal Power Act Section 203.¹

¹ 16 U.S.C. 824b.

OMB Control No.: 1902-0082.

Type of Request: Three-year extension of the FERC-519 information collection requirements with no changes to the current reporting requirements.

Abstract: The Commission requires that public utility officers must seek authorization under amended section 203(a)(1)(B) of the Federal Power Act (FPA) to merge or consolidate, directly or indirectly, its facilities subject to the jurisdiction of the Commission, or any part thereof, with the facilities of any other person, or any part thereof, that are subject to the jurisdiction of the Commission and have a value in excess of $10 million, by any means whatsoever. In addition, as required by the Act, the Commission establishes a requirement to submit a notification filing for mergers or consolidations by a public utility if the facilities to be acquired have a value in excess of $1 million and such public utility is not required to secure Commission authorization under amended section 203(a)(1)(B). The information collected under the FERC-519 enables the Commission to meet its statutory responsibilities regarding public utility disposition, merger, consolidation of facilities, purchase, or acquisition oversight and enforcement in accordance with the FPA as referenced above. Without this information, FERC would be unable to meet these responsibilities. The required information includes descriptions of corporate attributes of the party or parties to the proposed transaction (e.g. a sale, lease, or other disposition, merger, or consolidation of facilities, or purchase of other acquisition of the securities of a public utility and the facilities or other property involved in the transaction), statements about effect of the transaction, and the applicant's proof that the transaction will be consistent with the public interest. It will enable the Commission to meet its statutory responsibilities regarding its FPA section 203 oversight of public utility dispositions, mergers, or consolidation of facilities, and associated oversight and enforcement responsibilities under the FPA as referenced above. The required information to be collected in the notification filing (established by the addition of 18 CFR part 33.12) for certain transactions includes descriptions of corporate attributes of the party or parties to the transaction and the facilities involved. FPA section 203 requires a filing on the occasion that a public utility proposes to dispose of jurisdictional facilities, merge such facilities, or acquire the securities of another public utility. Public Utilities consist of:

• Corporate;

• Information Technology Management;

• General Accounting;

• Personnel and Payroll;

• Transportation;

• Tariffs and Rates;

• Insurance;

• Operations and Maintenance;

• Plant and Depreciation;

• Purchase and Stores;

• Revenue Accounting and Collection;

• Tax;

• Treasury; and

• Miscellaneous.

Type of Respondents: Public utility officers regulated by the FPA.

Estimate of Annual Burden: ² The Commission estimates the total annual burden and cost ³ for this information collection as follows:

² “Burden” is the total time, effort, or financial resources expended by persons to generate, maintain, retain, or disclose or provide information to or for a Federal agency. For further explanation of what is included in the information collection burden, refer to Title 5 Code of Federal Regulations 1320.3.

³ Commission staff estimates that the industry's skill set and cost (for wages and benefits) for FERC-519 are approximately the same as the Commission's average cost. The FERC 2021 average salary plus benefits for one FERC full-time equivalent (FTE) is $180,703/year (or $87.00/hour).

FERC-519: Application Under Federal Power Act Section 203
| Number of respondents | Annual number of responses per respondent | Total number of responses | Average burden & cost per response | Total annual burden hours (total annual cost) | Cost per respondent
| (1) | (2) | (1) * (2) = (3) | (4) | (3) * (4) = (5) | (5) ÷ (1)
FERC-519 (FPA Section 203 Filings) ⁴ | 131 | 1 | 131 | 324.43 hr.⁵; $28,225.41 | 42,500.33 hrs.; $3,697,528.71 | $28,225.41

2. FERC-545

Title: FERC-545, Gas Pipeline Rates: Rate Change (Non-Formal)

⁴ Commission staff estimates that approximately 26 section 203 filings will change from full section 203 filings to the notification filing described above and will take one burden hour to complete. The number of respondents and responses is based on Commission staff's estimate that 13 percent of the approximately 200 section 203 filings received will be affected. This represents a significant reduction in burden hours.

⁵ With this amendment each of the 26 affected entities and their related filings (i.e., the entities that now only have to file the section 203 notification filings) is reduced to 1 hour.

OMB Control No.: 1902-0154.

Type of Request: Three-year extension of the FERC-545 information collection requirements with no changes to the current reporting requirements.

Abstract: FERC-545 is required to implement Sections 4, 5, and 16 of the Natural Gas Act (NGA), (15 U.S.C. 717c, 717d, and 717o). NGA Sections 4, 5, and 16 authorize the Commission to inquire into rate structures and methodologies and to set rates at a just and reasonable level. Specifically, a natural gas company must obtain Commission authorization for all rates and charges made, demanded, or received in connection with the transportation or sale of natural gas in interstate commerce.

Under the NGA, a natural gas company's rates must be just and reasonable and not unduly discriminatory or preferential. The Commission may act under different sections of the NGA to effect a change in a natural gas company's rate. When the Commission reviews rate increases that a natural gas company has proposed, it is subject to the requirement of Section 4(e) of the NGA. Under Section 4(e), the natural gas company bears the burden of proving that its proposed rates are just and reasonable. On the other hand, when the Commission seeks to impose its own rate determination, it must do so in compliance with Section 5(a) of the NGA. Under Section 5, the Commission must first establish that its alternative rate proposal is both just and reasonable.

Section 16 of the NGA states that the Commission “shall have the power to perform any and all acts, and to prescribe, issue, make, amend, and rescind such orders, rules, and regulations as it may find necessary or appropriate to carry out provisions of [the NGA].” In other words, Section 16 of the NGA grants the Commission the power to define accounting, technical and trade terms, prescribe forms, statements, declarations or reports and to prescribe rules and regulations.

Pipelines adjust their tariffs to meet market and customer needs. The Commission's review of these proposed changes is required to ensure rates remain just and reasonable and that services are not provided in an unduly or preferential manner. The Commission's regulations in 18 CFR part 154 specify what changes are allowed and the procedures for requesting Commission approval.

The Commission uses information in FERC-545 to examine rates, services, and tariff provisions related to natural gas transportation and storage services. The following filing categories are subject to FERC-545: (1) Tariff Filings—filings regarding proposed changes to a pipeline's tariff (including Cost Recovery Mechanisms for Modernization of Natural Gas Facilities filings in Docket No. PL15-1) and any related compliance filings; (2) Rate Filings—rate-related filings under NGA sections 4 and 5 and any related compliance filings and settlements; (3) Informational Reports; (4) Negotiated Rate and Non-Conforming Agreement Filings; (5) North American Energy Standards Board (NAESB) (RM96-1-042) Version 3.2; and (6) Market-Based Rates for Storage Filings (Part 284.501-505).

Type of Respondents: Natural gas pipelines under the jurisdiction of NGA.

Estimate of Annual Burden: ⁶ The public reporting burden has increased for this information collection due to normal fluctuations in industry and the inclusion of tariff filings in compliance with Order No. 587-Z. On July 15, 2021, in Docket No. RM96-1-042, the Commission amended its regulations to incorporate by reference the North American Energy Standards Board (NAESB) Wholesale Quadrant Version 3.2 standards. The revisions made by NAESB Version 3.2 are designed to enhance the natural gas industries' cyber security measures.

⁶ The Commission defines burden as the total time, effort, or financial resources expended by persons to generate, maintain, retain, or disclose or provide information to or for a Federal agency. For further explanation of what is included in the information collection burden, reference 5 Code of Federal Regulations 1320.3.

The Commission estimates the annual public reporting burden and cost for the information collection as follows:

FERC-545: Gas Pipeline Rates: Rate Change (Non-Formal)
| Number of respondents | Average number of responses per respondent | Total number of responses | Average burden and cost per response ⁷ | Total annual burden hours and total annual cost | Cost per respondent ($)
| (1) | (2) | (1) * (2) = (3) | (4) | (3) * (4) = (5) | (5) ÷ (1)
Tariff Filings | 109 | 2.768 | 301.712 | 211 hrs.; $20,467 | 63,661.232 hrs.; $6,175,139.50 | $56,652.66
Rate Filings | 32 | 2 | 64 | 354 hrs.; $34,338 | 22,656 hrs.; $2,197,632 | 56,980
Informational Reports | 100 | 1.770 | 177 | 235 hrs.; $22,795 | 41,595 hrs.; $4,034,715 | 40,347.15
Negotiated Rates & Non-Conforming Agreement Filings | 69 | 11 | 759 | 233 hrs.; $22,601 | 176,847 hrs.; $17,154,159 | 248,611
Market-Base Rates for Storage Filings | 2 | 1 | 2 | 230 hrs.; $22,310 | 460 hrs.; $44,620 | 22,310
NAESB (version 3.2) one time over 3 years carried over from RM96-1-42 | 178 | 1 | 178 | 3.33 hrs.; $323.01 | 592.74 hrs.; $57,495.78 | 323.01
Total |  |  | 1,482 |  | 305,811.97 hrs.; $29,663,761.28 |

3. FERC-546

Title: FERC-546, Certificated Rate Filings: Gas Pipeline Rates.

⁷ The estimated hourly cost (salary plus benefits) provided in this section is based on the salary figures for May 2021 posted by the Bureau of Labor Statistics for the Utilities sector (available at https://www.bls.gov/oes/current/naics3_221000.htm) and scaled to reflect benefits using the relative importance of employer costs for employee compensation from June 2021 (available at https://www.bls.gov/news.release/ecec.nr0.htm). The hourly estimates for salary plus benefits are:

Computer and Information Systems Manager (Occupation Code: 11-3021), $103.61.

Computer and Information Analysts (Occupation Code: 15-1120(1221), $67.99.

Electrical Engineer (Occupation Code: 17-2071), $72.15.

Legal (Occupation Code: 23-0000), $142.25.

The average hourly cost (salary plus benefits), weighting all of these skill sets evenly, is $96.50. We round it to $97/hour.

OMB Control No.: 1902-0155.

Type of Request: Three-year extension of the FERC-546 information collection requirements with no changes to the current reporting requirements.

Abstract: The Commission reviews the FERC-546 materials to decide whether to approve rates and tariff changes associated with an application for a certificate under Natural Gas Act (NGA) section 7(c) (15 U.S.C. 717). Additionally, FERC reviews FERC-546 materials in NGA section 4(f) (15 U.S.C. 717), storage applications, to evaluate an applicant's market power and determine whether to grant market-based rate authority to the applicant. The Commission uses the information in FERC-546 to monitor jurisdictional transportation, natural gas storage, and unbundled sales activities of interstate natural gas pipelines and Hinshaw ⁸ pipelines. In addition to fulfilling the Commission's obligations under the NGA, the FERC-546 enables the Commission to monitor the activities and evaluate transactions of the natural gas industry, ensure competitiveness, and improve efficiency of the industry's operations. In summary, the Commission uses the information to:

⁸ Hinshaw pipelines are those that receive all out-of-state gas from entities within or at the boundary of a state if all the natural gas so received is ultimately consumed within the state in which it is received, 15 U.S.C. 717(c). Congress concluded that Hinshaw pipelines are “matters primarily of local concern,” and so are more appropriately regulated by pertinent state agencies rather than by FERC. The Natural Gas Act section 1(c) exempts Hinshaw pipelines from FERC jurisdiction. A Hinshaw pipeline, however, may apply for a FERC certificate to transport gas outside of state lines.

• ensure adequate customer protections under NGA section 4(f);

• review rate and tariff changes filed under NGA section 7(c) for certification of natural gas pipeline transportation and storage services;

• provide general industry oversight; and

• supplement documentation during the pipeline audits process.

Failure to collect this information would prevent the Commission from monitoring and evaluating transactions and operations of jurisdictional pipelines and performing its regulatory functions.

Type of Respondents: Jurisdictional pipeline companies and storage operators.

Estimate of Annual Burden: ⁹ The Commission estimates the burden and cost for this information collection as follows:

⁹ “Burden” is the total time, effort, or financial resources expended by persons to generate, maintain, retain, or disclose or provide information to or for a Federal agency. For further explanation of what is included in the information collection burden, refer to Title 5 Code of Federal Regulations 1320.3.

FERC-546 (Certificated Rate Filings: Gas Pipeline Rates)
| Annual number of respondents | Annual number of responses per respondent | Total number of responses (rounded) | Average burden and cost per response ¹⁰ (rounded) | Total annual burden hours and total annual cost (rounded) | Cost per respondent ($) (rounded)
| (1) | (2) | (1) * (2) = (3) | (4) | (3) * (4) = (5) | (5) ÷ (1)
Pipeline Certificate Filings and Storage Applications | 47 | ¹¹ 1.595 | 74.965 | 500 hrs.; $41,652 | 37,482.50 hrs.; $3,122,442.18 | $66,434.94

4. FERC-549C

Title: FERC-549C, Standards for Business Practices of Interstate Natural Gas Pipelines.

¹⁰ The hourly cost (for salary plus benefits) uses the figures from the Bureau of Labor Statistics, June 2021, for positions involved in the reporting and recordkeeping requirements. These figures include salary (https://www.bls.gov/oes/current/naics2_22.htm) and benefits http://www.bls.gov/news.release/ecec.nr0.htm) and are:

Electrical Engineer (Occupation Code: 17-2071; $72.15/hour).

Management Analyst (Occupation Code: 13-1111; $68.39/hour).

Accounting (Occupation Code: 13-2011; $57.41/hours).

Computer and Mathematical (Occupation Code: 15-0000; $65.73/hour).

Legal (Occupation Code: 23-0000; $142.25/hour).

The average hourly cost (salary plus benefits) is calculated weighting each of the previously mentioned wage categories as follows: $72.15/hour (0.4) + $68.39/hour (0.2) + $57.41/hour (0.1) + $65.73/hour (0.1) + $142.25/hour (0.2) = $83.304/hour. The Commission rounds this figure to $83/hour.

¹¹ This figure was calculated by dividing the total number of responses ( ) by the total number of respondents (47). The resulting figure was then rounded to the nearest thousandth place.

OMB Control No.: 1902-0174.

Type of Request: Three-year extension of the FERC-549C information collection requirements with no changes to the current reporting requirements.

Abstract: The business practice standards under FERC-549C are required to carry out the Commission's policies in accordance with the general authority in sections 4, 5, 7, 8, 10, 14, 16, and 20 of the Natural Gas Act (NGA),¹² and sections 311, 501, and 504 of the Natural Gas Policy Act of 1978 (NGPA).¹³ The Commission adopted these business practice standards in order to update and standardize the natural gas industry's business practices and procedures in addition to improving the efficiency of the gas market and the means by which the gas industry conducts business across the interstate pipeline grid.

¹² 15 U.S.C. 717c-717w.

¹³ 15 U.S.C. 3301-3432.

In various orders since 1996, the Commission has adopted regulations to standardize the business practices and communication methodologies of interstate natural gas pipelines proposed by the North American Energy Standards Board (NAESB) in order to create a more integrated and efficient pipeline industry.¹⁴ Generally, when and if NAESB-proposed standards (e.g. consensus standards developed by the Wholesale Gas Quadrant (WGQ) ¹⁵) are approved by the Commission, the Commission incorporates them by reference into its approval. The process of standardizing business practices in the natural gas industry began with a Commission initiative to standardize electronic communication of capacity release transactions. The outgrowth of the initial Commission standardization efforts produced working groups composed of all segments of the natural gas industry and, ultimately, the Gas Industry Standards Board (GISB), a consensus organization open to all members of the gas industry was created. GISB was succeeded by NAESB.

¹⁴ This series of orders began with the Commission's issuance of Standards for Business Practices of Interstate Natural Gas Pipelines, Order No. 587, FERC Stats. & Regs. ¶ 31,038 (1996).

¹⁵ An accredited standards organization under the auspices of the American National Standards Institute (ANSI).

NAESB is a voluntary non-profit organization comprised of members from the retail and wholesale natural gas and electric industries. NAESB's mission is to take the lead in developing standards across these industries to simplify and expand electronic communication and to streamline business practices. NAESB's core objective is to facilitate a seamless North American marketplace for natural gas, as recognized by its customers, the business community, industry participants, and regulatory bodies. NAESB has divided its efforts among four quadrants including two retail quadrants, a wholesale electric quadrant, and the WGQ. The NAESB WGQ standards are a product of this effort. Industry participants seeking additional or amended standards (to include principles, definitions, standards, data elements, process descriptions, and technical implementation instructions) must submit a request to the NAESB office, detailing the change, so that the appropriate process may take place to amend the standards.

Failure to collect the FERC-549C data would prevent the Commission from monitoring and properly evaluating pipeline transactions and/or meeting statutory obligations under both the NGA and NGPA.

On August 17, 2020, NAESB filed a report informing the Commission that it had adopted and ratified WGQ Version 3.2 of its business practice standards applicable to interstate natural gas pipelines. Version 3.2 of the WGQ includes business practice standards developed and modified in response to industry requests and directives from the NAESB Board of Directors. This version also includes the standards developed in response to the recommendations of Sandia National Laboratory (Sandia),¹⁶ which in 2019 issued a cybersecurity surety assessment of the NAESB standards sponsored by DOE (Sandia Surety Assessment),¹⁷ and the standards developed to enable the use of distributed ledger technologies when transacting the NAESB Base Contract for Sale and Purchase of Natural Gas. The NAESB report identifies all the changes made to the WGQ Version 3.1 Standards and summarizes the deliberations that led to the changes being made. It also identifies changes to the existing standards that were considered but not adopted due to a lack of consensus or other reasons.

¹⁶ Sandia is a multidisciplinary national laboratory and federally funded research and development center for the U.S. Department of Energy's (DOE) National Nuclear Security Administration that supports numerous federal, state, and local government agencies, companies, and organizations.

¹⁷ In April 2017, NAESB announced that Sandia, through funding provided by DOE, would be performing a surety assessment of the NAESB standards. As determined by Sandia and DOE, the purpose of the surety assessment was to analyze cybersecurity elements within the standards, focusing on four areas: (1) The NAESB Certification Program for Accredited Certification Authorities, including the Wholesale Electric Quadrant (WEQ)-012 Public Key Infrastructure Business Practice Standards, the NAESB Accreditation Requirements for Authorized Certificate Authorities, and the Authorized Certification Authority Process; (2) the WEQ Open Access Same-Time Information Systems suite of standards; (3) the WGQ and Retail Markets Quadrant internet Electronic Transport (IET) and Quadrant Electronic Delivery Mechanism (EDM) Related Standards Manual; and (4) a high-level dependency analysis between the gas and electric markets to evaluate the different security paradigms the markets employ.

Type of Respondents: Natural gas pipelines under the jurisdiction of NGA and NGPA.

Estimate of Annual Burden: ¹⁸ The Commission estimates the total annual burden and cost ¹⁹ for this information collection as follows:

¹⁸ “Burden” is the total time, effort, or financial resources expended by persons to generate, maintain, retain, or disclose or provide information to or for a Federal agency. For further explanation of what is included in the information collection burden, refer to Title 5 Code of Federal Regulations 1320.3.

¹⁹ Commission staff estimates that the industry's skill set and cost (for wages and benefits) for FERC-549C are approximately the same as the Commission's average cost. The FERC 2021 average salary plus benefits for one FERC full-time equivalent (FTE) is $180,703/year (or $87.00/hour) posted by the Bureau of Labor Statistics for the Utilities sector (available at https://www.bls.gov/oes/current/naics3_221000.htm).

FERC-549C: Standards for Business Practices of Interstate Natural Gas Pipelines
| Number of respondents | Average number of responses per respondent | Total number of responses | Average burden & cost per response ²⁰ | Total annual burden hours & total annual cost | Cost per respondent ($)
| (1) | (2) | (1) * (2) = (3) | (4) | (3) * (4) = (5) | (5) ÷ (1)
Standards for Business Practices of Interstate Natural Gas Pipelines | 178 | 1 | 178 | 33.33 hrs.; $3,135.39 | 5,932.74 hrs.; $558,098.78 | $3,135.39

5. FERC-732

²⁰ The estimated hourly cost (salary plus benefits) provided in this section is based on the salary figures for May 2021 posted by the Bureau of Labor Statistics for the Utilities sector (available at http://www.bls.gov/oes/current/naics2_22.htm#13-0000) and scaled to reflect benefits using the relative importance of employer costs in employee compensation from June 2021 (available at https://www.bls.gov/oes/current/naics2_22.htm). The hourly estimates for salary plus benefits are:

Petroleum Engineer (Occupation Code: 17-2171), $74.20.

Computer Systems Analysts (Occupation Code: 15-1120), $67.99.

Legal (Occupation Code: 23-0000), $142.25.

Economist (Occupation Code: 19-3011), $75.75.

The average hourly cost (salary plus benefits) is calculated weighting each of the aforementioned wage categories as follows: $74.20 (0.3) + $142.25 (0.3) + $67.99 (0.15) + $75.75 (0.25) = $94.07. The Commission rounds it to $90/hour.

Title: FERC-732, Electric Rate Schedule and Tariffs: Long-Term Firm Transmission Rights in Organized Electricity Markets.

OMB Control No.: 1902-0245.

Type of Request: Three-year extension of the FERC-732 information collection requirement with no changes to the current reporting requirements.

Abstract: 18 CFR part 42 provides the reporting requirements of FERC-732 as they pertain to long-term transmission rights. To implement section 1233 ²¹ of the Energy Policy Act of 2005 (EPAct 2005),²² the Commission requires each transmission organization that is a public utility with one or more organized electricity markets to make available long-term firm transmission rights that satisfy each of the Commission's guidelines.²³

²¹ 16 U.S.C. 824.

²² 16 U.S.C. 824q.

²³ 18 CFR 42.1(d).

The FERC-732 regulations require that transmission organizations (that are public utilities with one or more organized electricity markets) choose one of two ways to file:

• File tariff sheets making long-term firm transmission rights available that are consistent with each of the guidelines established by FERC.

• File an explanation describing how their existing tariffs already provide long-term firm transmission rights that are consistent with the guidelines.

Additionally, the Commission requires each transmission organization to make its transmission planning and expansion procedures and plans available to the public. FERC-732 enables the Commission to exercise its wholesale electric rate and electric power transmission oversight and enforcement responsibilities in accordance with the FPA, the Department of Energy Organization Act (DOE Act), and EPAct 2005.

Type of Respondents: Public utility with one or more organized electricity markets.

Estimate of Annual Burden: ²⁴ The Commission estimates the total burden and cost ²⁵ for this information collection as follows.

²⁴ Burden is defined as the total time, effort, or financial resources expended by persons to generate, maintain, retain, or disclose or provide information to or for a Federal agency. For further explanation of what is included in the information collection burden, refer to 5 CFR 1320.3.

²⁵ FERC staff estimates that industry costs for salary plus benefits are similar to Commission costs. The FERC 2021 average salary plus benefits for one FERC full-time equivalent (FTE) is $180,703/year (or $87.00/hour) posted by the Bureau of Labor Statistics for the Utilities sector (available at https://www.bls.gov/oes/current/naics3_221000.htm.)

FERC-732, Electric Rate Schedules and Tariffs: Long-Term Firm Transmission Rights in Organized Electricity Markets
| Number of respondents | Annaul number of responses per respondent | Total number of responses | Total annual burden hours & total annual cost ($) | Cost per respondent ($)
| (1) | (2) | (1) * (2) = (3) | (3) * (4) = (5) | (5) ÷ (1)
Public utility with one or more organized electricity markets | 1 | 1 | ²⁶ 1 | 1,180 hrs.; $102,660 | $102,660

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

²⁶ The “1” Tariff filing is a placeholder for future fillers.

Dated: November 1, 2021.
Kimberly D. Bose,
Secretary.

[FR Doc. 2021-24860 Filed 11-12-21; 8:45 am]

BILLING CODE 6717-01-P